DEPARTMENT OF THE INTERIOR

Bureau of Land Management

[LLWYD10000.L14300000.EU0000; WYW-161972; WYW-176935]

Notice of Realty Action: Proposed Sale of Public Land, Wyoming

AGENCY: Bureau of Land Management, Interior.

ACTION: Notice of Realty Action.

SUMMARY: The Bureau of Land Management (BLM) has examined and found the following public lands located in Teton County, Wyoming, suitable for direct (non-competitive) sale under Section 203 of the Federal Land Policy and Management Act of 1976 (FLPMA) at not less than the fair market value, to resolve an unintentional unauthorized use of public lands.

DATES: Comments regarding the proposed sale must be received by the BLM at the address below not later than July 8, 2010.

ADDRESSES: Send all written comments concerning this proposed sale to the Field Manager, Bureau of Land Management, Pinedale Field Office, PO Box 768, Pinedale, Wyoming 82941. Comments received in electronic form, such as e-mail or facsimile, will not be considered.

FOR FURTHER INFORMATION CONTACT: Bill Wadsworth, Realty Specialist, BLM, Pinedale Field Office, at the above address or at 307-367-5341.

SUPPLEMENTARY INFORMATION: The following-described public land in Teton County, Wyoming, is being considered for direct (non-competitive) sale under the authority of Section 203 of the FLPMA (90 Stat. 2750, 43 U.S.C. 1713):

Sixth Principal Meridian

T. 40 N., R. 116 W.,

Sec 34, lot 14.

T. 40 N., R. 117 W.,

Sec 25, lot 14.

The area described contains 0.95 acres, more or less, in Teton County.

The proposed direct sale is consistent with the objectives, goals and decision of the BLM Snake River Resource Management Plan dated April 5, 2004, and the land is not required for other Federal purposes. The direct sale of these lands to the adjacent landowners will resolve an unintentional, unauthorized occupancy of public land managed by the BLM including residences and agricultural buildings. In accordance with 43 CFR 2710.0-6(c)(3)(iii) and 43 CFR 2711.3-3(a), direct sale procedures are appropriate to resolve an inadvertent unauthorized occupancy of the land or to protect existing equities in the land. The sale, when completed, would protect the improvements involved and resolve the inadvertent encroachment. The parcel is the minimum size possible to ensure that all the improvements are included.

The BLM Snake River Resource Management Plan identified these lands suitable for disposal. The lands contain no other known public values.

Conveyance of the identified public land will be subject to valid existing rights and encumbrances of record, including but not limited to, rights-of-way for roads and public utilities. The patent will include a notice and indemnification statement under the Comprehensive Environmental Response Compensation and Liability Act. The parcel is subject to the requirements of Section 120(h) (42 U.S.C. Section 9620) holding the United States harmless from any release of hazardous materials that may have occurred as a result of the unauthorized use of the property by other parties. No warranty of any kind, express or implied, is given by the United States as to the title, physical condition or potential uses of the parcel of land proposed for sale. The BLM intends to retain all mineral rights.

Upon publication of this notice in the Federal Register, the lands will be segregated from all other forms of appropriation under the public land laws, including the general mining laws, except for conveyance under the FLPMA and leasing under the mineral leasing laws. Until completion of the sale, the BLM is no longer accepting land use applications affecting the identified public land, except applications for the amendment of previously-filed rights-of-way applications or existing authorizations to increase the term of the grants in accordance with 43 CFR 2807.15 and 2886.15. The segregative effect will end upon issuance of the patent, publication in the Federal Register of a termination of the segregation, or May 24, 2012, unless extended by the BLM State Director in accordance with 43 CFR 2711.1-2(d) prior to the termination date.

For a period until July 8, 2010, the general public and interested parties may submit written comments concerning the land being considered for sale, including notification of any encumbrances or other claims relating to the identified land, to the BLM Field Manager at the above address.

Detailed information concerning this action is available for review at the Bureau of Land Management, Pinedale Field Office, 1625 West Pine Street, Pinedale, Wyoming 82941.

Before including your address, phone number, e-mail address, or other personal identifying information in your comment, be advised that your entire comment—including your personal identifying information—may be publicly available at any time. While you can ask us in your comment to withhold from public review your personal identifying information, we cannot guarantee that we will be able to do so.

Any adverse comments will be reviewed by the BLM State Director, who may sustain, vacate, or modify this realty action. In the absence of timely filed objections, this realty action will become the final determination of the Department of the Interior.

Authority: 43 CFR 2711.1-2.

Brian Davis,
Acting Field Manager.

[FR Doc. 2010-12340 Filed 5-21-10; 8:45 am]

BILLING CODE 4310-22-P